NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 8, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-004

1. Applicant: Dr. Paul Ponganis, Scripps Institute of Oceanography, UCSD, La Jolla, CA 92093-0204

Activity for Which Permit Is Requested: Take, Harmful Interference, Enter Antarctic Specially Protected Area. The applicant seeks an Antarctic Conservation Act permit authorizing take and harmful interference associated with ongoing research examining the oxygen transport systems of emperor penguins (Aptenodytes forsteri) in Antarctica. The applicant proposes capturing up to 38 non-breeding or sub-adult penguins from the McMurdo Sound region or, if necessary, in Cape Washington (ASPA 173). The applicant will access ASPA 173 by fixed-wing aircraft in accordance with the ASPA management plan. Throughout the course of the physiology study, penguins will be kept captive on the sea ice, but will be allowed to dive and forage at will. Research activities involve the administration of general anesthesia and the attachment of instrumentation to measure oxygen levels, heart rate/stroke rate, and dive depth/activity. In some penguins, blood samples may be collected during dives. At the end of each dive study, equipment will be removed, and the penguins will be released at the McMurdo Sea ice edge, where they will be able to rejoin nearby colonies.

Location: McMurdo Sound, ASPA 173: Cape Washington and Silverfish Bay

Dates of Permitted Activities: October 1, 2023-December 20, 2023.

Permit Application: 2024-005

2. Applicant: Rachael Herman, Stony Brook University, Stony Brook, NY 11794-5215

Activity for Which Permit Is Requested: Take, Harmful Interference, Import into USA. The applicant seeks an Antarctic Conservation Act permit authorizing take and harmful interference and import of samples to the USA associated with research examining adaptation of Gentoo penguins (Pygoscelis papua) in Antarctica. The applicant proposes collecting blood samples from up to 20 Gentoo penguins, feather samples from up to 5 Gentoo penguins, and blood samples from up to 10 Adelie penguins (P. adeliae) from the Antarctic Peninsula region. The applicant also proposes to salvage a maximum of 10 failed gentoo penguin eggs, and up to 2 recently deceased Gentoo penguin carcasses.

Location: Antarctic Peninsula Region.

Dates of Permitted Activities: November 1, 2023-March 31, 2024.

Kimiko Bowens-Knox,
Program Analyst, Office of Polar Programs.

[FR Doc. 2023-17080 Filed 8-8-23; 8:45 am]

BILLING CODE 7555-01-P